DEPARTMENT OF TRANSPORTATION

Federal Aviation Administration

Public Notice for a Change in Use of Aeronautical Property and Long-Term Lease Approval at Harrisburg International Airport (MDT), Middletown, PA

AGENCY: Federal Aviation Administration (FAA), DOT.

ACTION: Request for public Comment.

SUMMARY: The Federal Aviation Administration is requesting public comment on the Susquehanna Area Regional Airport Authority's request to change 22 acres of airport property from aeronautical use to non-aeronautical use. The request also solicits approval for entering into a long-term lease for 2.893 acres within this area for a retail convenience store.

The parcel is located at Harrisburg International Airport (MDT) in Lower Swatara Township, Dauphin County, PA. The property is currently depicted on the Airport Layout Plan of record as airport property and consists of unimproved, undeveloped vacant land, which is partially paved and fenced. The land lies at the Northeast intersection of W. Harrisburg Pike (US Route 230) and Meade Avenue in Middletown, PA. The Parcel is further identified as Dauphin County identification parcels 36-023-008 and 009. The airport is proposing re-designating this 22-acre area as available for non-aeronautical use. The requested change is for the anticipated purpose of permitting the Airport Owner to enter into long-term lease agreements for commercial property development as a retail commercial center, consistent with the findings of The Highest and Best Use Study completed in 2011. A 2.893 acres sub parcel located within the subject area is ready to be developed. No land shall be sold as part of this land release request. This action will allow the re-designation of the 22-acre area, known as the “North 29”, as land available for non-aeronautical use on the Airport Layout Plan (ALP). In addition, approval is sought by the Airport Authority to enter into a long-term lease agreement with a retail convenience store to be located on a 2.893 acre sub-parcel located within the 22-acre plot. The documents reflecting the Sponsor's request are available, by appointment only, for inspection at the Harrisburg International Airport, Executive Director's Office and the FAA Harrisburg Airport District Office in Camp Hill, PA.

DATES: Comments must be received on or before June 27, 2013.

ADDRESSES: Documents are available for review at the Susquehanna Area Regional Airport Authority Office located at Harrisburg International Airport: Timothy Edwards, Executive Director, Harrisburg International Airport, Susquehanna Area Regional Airport Authority, One Terminal Drive, Suite 300, Middletown, PA 17057, 717-948-3900, and at the FAA Harrisburg Airports District Office: Oscar D. Sanchez, Program Manager, Harrisburg Airports District Office, 3905 Hartzdale Dr., Suite 508, Camp Hill, PA 17011, (717) 730-2834.

FOR FURTHER INFORMATION CONTACT: Oscar D. Sanchez, Program Manager, Harrisburg Airports District Office (location listed above).

SUPPLEMENTARY INFORMATION: The FAA invites public comment on the request to re-designate current aeronautical property at the Harrisburg International Airport as available for non-aeronautical use under the provisions of Section 47125(a) of Title 49 U.S.C.

The following is a brief overview of the request: The Susquehanna Area Regional Airport Authority (SARAA), that owns and operates Harrisburg International Airport (MDT), has requested the redesignation of a 22-acre parcel located on airport property, as available for non-aeronautical development. The 22-acre parcel is located in proximity to the Northeast intersection of W. Harrisburg Pike (US Route 230) and Meade Avenue in Middletown, PA. The Parcel is further identified as Dauphin County identification parcels 36-023-008 and 009. The request also solicits approval for entering into a long-term lease for 2.893 acres of this area for a retail convenience store. The Airport Authority has determined that it is in its best interest to encourage development under long-term leases of currently unused, vacant land assets as a means to diversify airport revenues. Due to the location of the property, the area known as the “North 29” serves no foreseeable aeronautical purpose and is available for non-aeronautical development. This land was conveyed to SARAA by the Commonwealth of Pennsylvania through its Department of Transportation by a deed dated 01/02/1998 and recorded in Dauphin County, Pennsylvania book 3008, page 425. There are no known adverse impacts to the operation of the airport and the 22-acre parcel of land is not needed for future aeronautical development as shown on the Harrisburg International Airport approved Airport Layout Plan (ALP). There is to be no sale or transfer of property rights in connection with this Airport Layout Plan change. Any proceeds from the lease of the pending long-term commercial retail lease agreement or other future non-aeronautical development are to remain on the airport for capital development and to cover the operating costs of the Airport.

Any person may inspect the request by appointment at the FAA office address listed above.

Interested persons are invited to comment on the proposed change in use of the property. All comments will be considered by the FAA to the extent practicable.

Issued in Camp Hill, Pennsylvania, May 17, 2013.
Lori K. Pagnanelli,
Manager, Harrisburg Airports District Office.

[FR Doc. 2013-12617 Filed 5-24-13; 8:45 am]

BILLING CODE 4910-13-P